DEPARTMENT OF TRANSPORTATION

Federal Aviation Administration

Fifty Sixth RTCA SC-224 Standards for Airport Security Access Control Systems Plenary

AGENCY: Federal Aviation Administration (FAA), U.S. Department of Transportation (DOT).

ACTION: Fifty Sixth RTCA SC-224 Standards for Airport Security Access Control Systems Plenary.

SUMMARY: The FAA is issuing this notice to advise the public of a meeting of Fifty Sixth RTCA SC-224 Standards for Airport Security Access Control Systems Plenary.

DATES: The meeting will be held March 29, 2018, 10:00 a.m.-1:00 p.m.

ADDRESSES: The meeting will be held at: RTCA Headquarters, 1150 18th Street NW, Suite 910, Washington, DC 20036.

FOR FURTHER INFORMATION CONTACT: Karan Hofmann at khofmann@rtca.org or 202-330-0680, or The RTCA Secretariat, 1150 18th Street NW, Suite 910, Washington, DC 20036, or by telephone at (202) 833-9339, fax at (202) 833-9434, or website at http://www.rtca.org.

SUPPLEMENTARY INFORMATION: Pursuant to section 10(a)(2) of the Federal Advisory Committee Act (Pub. L. 92-463, 5 U.S.C., App.), notice is hereby given for a meeting of the Fifty Sixth RTCA SC-224 Standards for Airport Security Access Control Systems Plenary. The agenda will include the following:

1. Welcome/Introductions/Administrative Remarks

2. Review/Approve Previous Meeting Summary

3. TSA Report

4. Report on Document Distribution Mechanisms

5. Report on the New Guidelines and Other Safe Skies Reports

6. Discussion on DO-230I

7. Decision To Approve Release of DO-230I for Final Review and Comment (FRAC)

8. Discussion on Terms of Reference (TOR) and DO-230J Revision

9. Action Items for Next Meeting

10. Time and Place of Next Meeting

11. Any Other Business

12. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on February 7, 2018.
Mohannad Dawoud,
Management & Program Analyst, Partnership Contracts Branch, ANG-A17, NextGen, Procurement Services Division, Federal Aviation Administration.

[FR Doc. 2018-02833 Filed 2-12-18; 8:45 am]

BILLING CODE 4910-13-P